DEPARTMENT OF JUSTICE

Antitrust Division

Notice Pursuant to the National Cooperative Research and Production Act of 1993—International Pharmaceutical Aerosol Consortium for Toxicology Testing of HFA-227 (IPACT-II)

Notice is hereby given that, on June 13, 2002, pursuant to Section 6(a) of the National Cooperative Research and Production Act of 1993, 15 U.S.C. 4301 et seq. (the “Act”), the International Pharmaceutical Aerosol Consortium for Toxicololgy Testing of HFA-227 (IPACT-II) filed written notifications simultaneously with the Attorney General and the Federal Trade Commission announcing the termination of IPACT-II, effective April 30, 2001.

Although membership in IPACT-II is no longer open, the data that IPACT-II generated oin HFA-227 will continue to be available through a cost-sharing license.

On February 21, 1991, IPACT-II filed its original notification pursuant to 15 U.S.C. 4305(a). The Department of Justice published a notice in the Federal Register pursuant to 15 U.S.C. 4305(b) on April 2, 1991 (56 FR 13489).

The last notification was filed with the Department on March 15, 2000. The Department of Justice published a notice in the Federal Register pursuant to 15 U.S.C. 4305(b) on August 17, 2000 (65 FR 20218).

Constance K. Robinson,
Director of Operations, Antitrust Division.

[FR Doc. 02-20416 Filed 8-12-02; 8:45 am]

BILLING CODE 4410-11-M